DEPARTMENT OF THE INTERIOR

U.S. Geological Survey

Call for Nominations to the National Geospatial Advisory Committee

AGENCY: U.S. Geological Survey, Interior.

ACTION: Call for Nominations, National Geospatial Advisory Committee.

SUMMARY: The Department of the Interior is seeking nominations to serve on the National Geospatial Advisory Committee (NGAC). The NGAC is a Federal Advisory Committee established under the authority of the Federal Advisory Committee Act (FACA). The Committee provides advice and recommendations to the Federal Geographic Data Committee (FGDC), through the FGDC Chair (the Secretary of the Interior or designee), related to management of Federal geospatial programs, the development of the National Spatial Data Infrastructure (NSDI), and the implementation of Office of Management and Budget (OMB) Circular A-16 and Executive Order 12906. The Committee reviews and comments upon geospatial policy and management issues and provides a forum to convey views representative of non-Federal stakeholders in the geospatial community.

DATES: Nominations to participate on this Committee must be received by August 24, 2010.

ADDRESSES: Send nominations electronically to ngacnominations@fgdc.gov, or by mail to John Mahoney, U.S. Geological Survey, U.S. Department of the Interior, 909 First Avenue, Suite 800, Seattle, WA 98104. Nominations may be submitted on behalf of others, or individuals may self-nominate. Nominations should include:

1. A nomination letter summarizing the nominee's qualifications and interest in Committee membership and describing the nominee's ability to represent a stakeholder group.

2. A biographical sketch, resume, or vita.

3. One letter of reference and a list of two additional references with contact information.

4. Contact information for the nominee (name, title, organization, mailing address, e-mail address, phone number).

Additional information and instructions about the nomination process are posted on the NGAC Web page at http://www.fgdc.gov/ngac.

FOR FURTHER INFORMATION CONTACT: John Mahoney, USGS (206-220-4621).

SUPPLEMENTARY INFORMATION: The Committee conducts its operations in accordance with the provisions of the FACA. It reports to the Secretary of the Interior through the Chair of the FGDC Steering Committee and functions solely as an advisory body. The Committee provides recommendations and advice to the Department and the FGDC on policy and management issues related to the effective operation of Federal geospatial programs.

The NGAC includes 25-30 members, selected to generally achieve a balanced representation of the viewpoints of the various partners involved in national geospatial activities. NGAC members are appointed for staggered terms, and approximately one-half of the seats on the committee will be appointed during this round of appointments.

Nominations will be reviewed by the FGDC. Additional information may be requested from nominees. Final selection and appointment of committee members will be made by the Secretary of the Interior. The Obama Administration prohibits individuals who are currently federally registered lobbyists to serve on all FACA and non-FACA boards, committees or councils.

The Committee meets approximately 3-4 times per year. Committee members will serve without compensation. Travel and per diem costs will be provided for Committee members by USGS. The USGS will provide necessary support services to the Committee. Committee meetings will be open to the public. Notice of committee meetings will be published in the Federal Register at least 15 days before the date of the meeting. The public will have an opportunity to provide input at these meetings.

In accordance with FACA, a copy of the Committee's charter will be filed with the Committee Management Secretariat, General Services Administration. The current version of the NGAC charter is available at http://www.fgdc.gov/ngac.

Dated: June 30, 2010.
Ivan DeLoatch,
Staff Director, Federal Geographic Data Committee.

[FR Doc. 2010-16594 Filed 7-7-10; 8:45 am]

BILLING CODE 4310-AM-P